ENVIRONMENTAL PROTECTION AGENCY

[EPA-HQ-OPP-2012-063; FRL-9911-28-OEI]

Information Collection Request Submitted to OMB for Review and Approval; Comment Request; Pesticide Spray Drift Reduction Technologies (New)

AGENCY: Environmental Protection Agency (EPA).

ACTION: Notice.

SUMMARY: EPA has submitted the following new information collection request (ICR) to the Office of Management and Budget (OMB) for review and approval in accordance with the Paperwork Reduction Act (44 U.S.C. 3501 et seq.): Pesticide Spray Drift Reduction Technologies (EPA ICR No. 2472.01, OMB Control No. 2070-New). The ICR, which is summarized in this document and available in the docket, addresses the comments received in response to the previously provided public review opportunity EPA issued on November 21, 2012 (77 FR 69823). With this submission, EPA is providing an additional 30 days for public comments. An Agency may not conduct or sponsor and a person is not required to respond to a collection of information unless it displays a currently valid OMB control number.

DATES: Additional comments may be submitted on or before June 27, 2014.

ADDRESSES: Submit your comments, referencing Docket ID Number EPA-HQ-OPP-2012-0631, to (1) EPA online using www.regulations.gov or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Kathryn Boyle, Field and External Affairs Division, Office of Pesticide Programs, (7506P), Environmental Protection Agency, 1200 Pennsylvania Ave. NW., Washington, DC 20460; telephone number: 703-305-6304; fax number: 703-305-5584; email address: boyle.kathryn@epa.gov.

SUPPLEMENTARY INFORMATION: Docket: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Title: Pesticide Spray Drift Reduction Technologies.

ICR numbers: EPA ICR No. 2472.01, OMB Control No. 2070—New.

ICR Status: This request is for approval of a new collection.

Abstract: EPA intends to initiate a voluntary information collection for research to verify the effectiveness of application technologies for agricultural pesticide sprays that have the potential to significantly reduce pesticide spray drift. The focus of this research is on technologies, such as spray nozzles, shrouds and shields, and nozzle/drift reducing adjuvant chemical combinations, which are used for aerial or groundboom applications to row and field crops. Collectively these technologies are referred to as drift reduction technologies (DRTs). The voluntary program would encourage the identification and use of DRTs that can substantially reduce drift of pesticide spray droplets from the target application site (e.g., a corn field) downwind to non-target areas. Exposures and adverse effects to humans, wildlife, and crops and other vegetation from pesticide spray drift are well recognized. Published research suggests 1-10% or more of applied agricultural pesticide sprays drift from the target field. EPA believes there are application technologies that have the potential to significantly reduce the amount of spray drift. As these technologies are identified, their drift-reducing potential needs to be verified.

Form Numbers: None.

Respondents/affected entities: Entities potentially affected by the voluntary collection activities under this ICR include pesticide application equipment manufacturers, chemical manufacturers, pesticide registrants, university researchers, and others who have an interest in reducing spray drift. The North American Industrial Classification System (NAICS) codes for the principal respondents include 32532, 111, 541710 and 611310.

Respondent's obligation to respond: Voluntary.

Estimated number of respondents: 12 companies (total).

Estimated average number of responses for each respondent: 1.

Frequency of response: On occasion.

Total estimated burden: 539 hours (annualized). Burden is defined at 5 CFR 1320.03(b).

Total estimated cost: $73,000 (annualized), includes $0 annualized capital or operation and maintenance costs.

Changes in the Estimates: This is a new ICR.

Dated: May 16, 2014.
Erin Collard,
Acting Director, Collection Strategies Division.

[FR Doc. 2014-12328 Filed 5-27-14; 8:45 am]

BILLING CODE 6560-50-P